DEPARTMENT OF LABOR

Office of the Secretary

Combating Exploitive Child Labor Through Education

AGENCY: Bureau of International Labor Affairs, Department of Labor.

ACTION: General solicitation of public comments on past solicitations for Cooperative Agreement Applications for projects to combat exploitive child labor through education published by the Office of Child Labor, Forced Labor, and Human Trafficking.

SUMMARY: In preparation for a possible FY 2009 Notice of Availability of Funds and Solicitation(s) for Cooperative Agreement Applications (SGAs), the Office of Child Labor, Forced Labor, and Human Trafficking (OCFT) within the U.S. Department of Labor (USDOL), Bureau of International Labor Affairs (ILAB), is requesting public comments on past SGAs published for projects to combat exploitive child labor internationally through education, as well as suggestions for improving such SGAs in the future.

DATES: Comments will be accepted until March 31, 2009.

TO SUBMIT COMMENTS, OR FOR FURTHER INFORMATION, CONTACT: Ms. Michal Murphy, International Relations Officer, Office of Child Labor and Human Trafficking, Bureau of International Labor Affairs. Telephone: (202) 693-4843 (this is not a toll-free number). Comments may be submitted by the following methods:

• E-mail: murphy.michal@dol.gov; and

• Facsimile (FAX): USDOL ILAB/Office of Child Labor, Forced Labor, and Human Trafficking at (202) 693-4830.

SUPPLEMENTARY INFORMATION:

1. Background

Since 1995, the U.S. Congress has appropriated over USD 660 million to USDOL's OCFT for efforts to combat exploitive child labor internationally. This funding has been used to support technical cooperation projects to combat exploitive child labor, including the worst forms of child labor, in more than 75 countries worldwide. Technical cooperation projects funded by USDOL's OCFT range from direct action programs targeting specific sectors of work to more comprehensive programs that support national efforts to eliminate the worst forms of child labor as defined by ILO Convention 182. USDOL-funded projects generally seek to achieve five major goals:

1. Withdrawing and preventing children from involvement in exploitive child labor through the provision of direct educational services;

2. Strengthening policies on child labor and education, the capacity of national institutions to combat child labor, and formal and transitional education systems that encourage children engaged in, or at risk of engaging in, exploitive child labor to attend school;

3. Raising awareness of the importance of education for all children and mobilizing a wide array of actors to improve and expand education infrastructures;

4. Supporting research and the collection of reliable data on child labor; and

5. Ensuring the long-term sustainability of these efforts.

Since 2001, USDOL-funded projects have withdrawn or prevented over 1 million children from exploitive labor.

In preparation for possible future solicitations for cooperative agreement applications, OCFT is requesting comments regarding these past SGAs and suggestions for possible improvements. All comments received will be taken into consideration by ILAB's OCFT in the development of future SGAs for child labor and education projects.

2. Comment Submission Information

All individuals or organizations interested in submitting comments should send them using the information specified above, no later than March 31, 2009. All comments should make reference to this notice requesting public comment on past OCFT SGAs to combat exploitive child labor through education.

In your comments, please indicate which OCFT SGA you are basing your comments on [e.g., SGA 08-01 (FY 2008), SGA 07-10 (FY 2007), SGA 06-06 (FY 2006)]. Recently published OCFT SGAs for projects to combat exploitive child labor through education can be found online at USDOL's Web site: http://www.dol.gov/ilab/programs/ocft/news.htm.

General Questions for All Organizations

(1) Where did you first learn about OCFT's SGA?

• The Federal Register.

• Grants.gov.

• OCFT's “EI Listserve.”

• USDOL-OCFT's Web site.

• Other—Please specify.

(2) Please comment on the format of the SGA, including:

• Length of the SGA.

• Is the level of detail in the SGA adequate?

• Which sections of the SGA do you find most helpful?

• Which information provided in the SGA do you find least useful?

• Are the SGA's requirements easy to locate? Clearly presented? Are they reasonable? Are the costs associated with these requirements reasonable?

• In terms of the SGA's country scopes of work (e.g., Section I.B.3 in SGA 08-01), are OCFT's requirements clear? Which information provided in the country sections is the most helpful? Which information is the least helpful?

• Are any of OCFT's requirements for the technical and/or cost proposals (outlined in Appendices A and B of SGA 08-01) burdensome or unnecessary? If so, which ones?

• Are any of the criteria for evaluating applications (e.g., Section V.A. of SGA 08-01) unclear? If so, in what way?

• Are the instructions for preparing and submitting applications clear and easy to follow? If not, how could they be improved?

(3) In the future, how could OCFT improve its SGAs for projects to combat exploitive child labor through education and make them more user-friendly?

(4) If you have applied for an OCFT grant in the past, what factors led you to apply for the SGA?

• Ability to understand application requirements.

• Ability to provide responsive information.

• Knowledge of subject.

• Knowledge of countries.

• Other—Please specify.

(5) Please comment on the level to which you feel that OCFT's SGAs and requirements allow you or your organizations to develop innovative and effective approaches to combating exploitive child labor internationally. What could OCFT do to encourage innovation more?

(6) Please comment on the adequacy of the length of time provided to submit an application for OCFT SGAs. How long would you suggest that OCFT leave its SGAs open from the date of publication to the deadline for applications?

(7) If you have applied for an OCFT grant in the past, please comment on the level of effort and time involved in preparing your application(s). How does the level of effort for OCFT's SGAs compare with the level of effort and time spent preparing applications for other Federal agencies?

(8) If applicable, please comment on your experience with submitting your application on Grants.gov. What could USDOL do to improve the submission process?

(9) If, in the past you have considered applying for an OCFT grant, but ultimately decided not to apply, which factor(s) influenced your decision not to apply? Please select all that apply.

• Countries selected.

• Cost of preparing proposal.

• Research required for proposal (i.e., needs assessment).

• Number of requirements.

• Specific requirement(s)—please specify.

• Difficulties with submitting application online using Grants.gov.

• Limited knowledge of child labor issues.

• Limited knowledge of target countries.

• Past experience implementing USG project.

• Past experience implementing USDOL project.

• Other—Please specify.

(10) In the future, what specific actions could OCFT take to encourage you or your organization to apply for OCFT SGAs for international projects to combat exploitive child labor through education?

Signed at Washington, DC, this 13th day of March 2009.
Marcia Eugenio,
Acting Deputy Under Secretary, Bureau of International Labor Affairs.

[FR Doc. E9-5821 Filed 3-17-09; 8:45 am]

BILLING CODE 4510-28-P